INTERNATIONAL TRADE COMMISSION

[Investigation No. 731-TA-663 (Fifth Review)]

Paper Clips From China

Determination

On the basis of the record ¹ developed in the subject five-year review, the United States International Trade Commission (“Commission”) determines, pursuant to the Tariff Act of 1930 (“the Act”), that revocation of the antidumping duty order on paper clips from China would be likely to lead to continuation or recurrence of material injury to an industry in the United States within a reasonably foreseeable time.

¹ The record is defined in § 207.2(f) of the Commission's Rules of Practice and Procedure (19 CFR 207.2(f)).

Background

The Commission instituted this review on September 1, 2022 (87 FR 53783) and determined on December 5, 2022, that it would conduct an expedited review (88 FR 14391, March 8, 2023).

The Commission made this determination pursuant to section 751(c) of the Act (19 U.S.C. 1675(c)). It completed and filed its determination in this review on April 11, 2023.

The views of the Commission are contained in USITC Publication 5418 (April 2023), entitled Paper Clips from China: Investigation No. 731-TA-663 (Fifth Review).

By order of the Commission.
Issued: April 11, 2023.
Lisa Barton,
Secretary to the Commission.

[FR Doc. 2023-07918 Filed 4-13-23; 8:45 am]

BILLING CODE 7020-02-P